DEPARTMENT OF THE INTERIOR

National Park Service

[NPS-WASO-NAGPRA-NPS0038991; PPWOCRADN0-PCU00RP14.R50000]

Notice of Intended Disposition Amendment: U.S. Department of the Interior, Bureau of Land Management, Colorado State Office, Canyons of the Ancients National Monument, Dolores, CO

AGENCY: National Park Service, Interior.

ACTION: Notice; amendment.

SUMMARY: In accordance with the Native American Graves Protection and Repatriation Act (NAGPRA), the U.S. Department of the Interior, Bureau of Land Management, Canyons of the Ancients National Monument has amended a notice of intended disposition published in the Federal Register on August 21, 2024. This notice amends the Indian Tribes with priority for disposition.

DATES: Disposition of the human remains in this notice may occur on or after December 12, 2024. If no claim for disposition is received by November 12, 2025, the human remains in this notice will become unclaimed human remains.

ADDRESSES: Raymond O'Neil, Monument Manager, Canyons of the Ancients National Monument, 27501 Highway 184, Dolores, CO 81323, telephone (970) 882-5616, email roneil@blm.gov.

SUPPLEMENTARY INFORMATION: This notice is published as part of the National Park Service's administrative responsibilities under NAGPRA. The determinations in this notice are the sole responsibility of the Bureau of Land Management, and additional information on the human remains in this notice, including the results of consultation, can be found in the related records. The National Park Service is not responsible for the identifications in this notice.

Amendment

This notice amends the list of Indian Tribes with priority for disposition published in a notice of intended disposition in the Federal Register (89 FR 67656-67657, August 21, 2024). Disposition of the human remains in the original notice of intended disposition has not occurred.

Determinations

The Bureau of Land Management has determined that:

• The Hopi Tribe of Arizona; Ohkay Owingeh, New Mexico; Pueblo of Acoma, New Mexico; Pueblo de Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo de San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico have priority for disposition of the human remains described in the original notice.

Claims for Disposition

Written claims for disposition of the human remains in this notice must be sent to the appropriate official identified in this notice under ADDRESSES. If no claim for disposition is received by November 12, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after December 12, 2024. If competing claims for disposition are received, the Bureau of Land Management must determine the most appropriate claimant prior to disposition. Requests for joint disposition of the human remains are considered a single request and not competing requests. The Bureau of Land Management is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: October 29, 2024.
Melanie O'Brien,
Manager, National NAGPRA Program.

[FR Doc. 2024-26085 Filed 11-8-24; 8:45 am]

BILLING CODE 4312-52-P